DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the CDC announces the following meeting of the Mine Safety and Health Research Advisory Committee (MSHRAC). This is a virtual meeting only. It is open to the public, limited only by the number of web conference lines (500 web conference lines are available). If you wish to attend virtually, please register according to the instructions in the addresses section below. Time will be available for public comment.

DATES: The meeting will be held on December 8, 2022, from 10:00 a.m. to 3:30 p.m., EST.

ADDRESSES: To attend the virtual meeting, please register at the website of the National Institute for Occupational Safety and Health (NIOSH) at www.cdc.gov/niosh/mining/features/2022-12mshrac.html or by telephone at (412) 386-4541 at least 5 business days in advance of the meeting. Registrants will receive Zoom web conference access information sent to their provided email address upon successful registration.

FOR FURTHER INFORMATION CONTACT: George W. Luxbacher, P.E., Ph.D., Designated Federal Officer, MSHRAC, NIOSH, CDC, 1600 Clifton Road NE, Mailstop V24-4, Atlanta, Georgia 30329-4027; Telephone: (404) 498-2808; Email: GLuxbacher@cdc.gov.

SUPPLEMENTARY INFORMATION:

Purpose: This Committee is charged with providing advice to the Secretary, Department of Health and Human Services; the Director, CDC; and the Director, NIOSH, on priorities in mine safety and health research, including grants and contracts for such research, 30 U.S.C. 812(b)(2), section 102(b)(2).

Matters to be Considered: The agenda will include discussions on NIOSH mining safety and health research organizational structure, capabilities, projects, and outcomes. The meeting will also include an update from the NIOSH Associate Director for Mining. Agenda items are subject to change as priorities dictate.

Public Participation

Written Public Comment: The public may submit written comments or questions in advance of the meeting, to the contact person above. Written comments received in advance of the meeting will be included in the official record of the meeting, and questions will be answered during the oral public comment period open to public participation.

Oral Public Comment: This meeting will include time for members of the public to make an oral comment. The public comment session will be held on December 8, 2022, at 3:00 p.m., EST, or at the conclusion of planned presentations, and conclude following the final call for public comment. Members of the public will be given 5 to 10 minutes each for comments.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-22454 Filed 10-14-22; 8:45 am]

BILLING CODE 4163-18-P